DEPARTMENT OF TRANSPORTATION

Pipeline and Hazardous Materials Safety Administration

[Docket No. PHMSA-2010-0246]

Pipeline Safety: Request for Comments of a Previously Approved Information Collection

AGENCY: Pipeline and Hazardous Materials Safety Administration (PHMSA), DOT.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on September 1, 2010 (75 FR 53733). No comments were received.

ADDRESSES: Send comments regarding the burden estimate, including suggestions for reducing the burden, to OMB, Attention: Desk Officer for PHMSA, 725 17th Street, NW., Washington, DC 20503.

DATES: Comments must be submitted on or before December 13, 2010.

FOR FURTHER INFORMATION CONTACT: Cameron Satterthwaite by telephone at 202-366-1319, by fax at 202-366-4566, or by mail at U.S. Department of Transportation, Pipeline and Hazardous Materials Safety Administration, 1200 New Jersey Avenue, SE., PHP-30, Washington, DC 20590-0001.

SUPPLEMENTARY INFORMATION: Title: National Pipeline Mapping Program.

OMB Control Number: 2137-0596.

Type of Request: Renewal of a previously approved information collection.

Abstract: Each operator of a pipeline facility (except distribution lines and gathering lines) must provide contact information and geospatial data on their pipeline system. This information should be updated on an annual basis. The provided information is incorporated into the National Pipeline Mapping System (NPMS) to support various regulatory programs, pipeline inspections, and authorized external customers. The periodic updates of operator pipeline data inform the NPMS of any changes to the data over the previous year and allow PHMSA to maintain and improve the accuracy of the information.

Affected Public: Operators of pipeline facilities (except distribution lines and gathering lines).

Estimated Number of Responses: 894.

Estimated Total Annual Burden Hours: 16,312 hours.

Frequency of Collection: Annual.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of the date of publication in the Federal Register.

Authority: The Paperwork Reduction Act of 1995; 44 U.S.C. Chapter 35, as amended; and 49 CFR 1:48.

Issued in Washington, DC on November 8, 2010.
John A. Gale,
Director, Office of Standards and Rulemaking.

[FR Doc. 2010-28537 Filed 11-10-10; 8:45 am]

BILLING CODE 4910-60-P